DEPARTMENT OF THE INTERIOR

Fish and Wildlife Service

Notice of Intent To Prepare a Comprehensive Conservation Plan and Environmental Impact Statement for the Long Island National Wildlife Refuge Complex

ACTION: Notice of intent to prepare a Comprehensive Conservation Plan and Environmental Impact Statement for the Long Island National Wildlife Refuge Complex.

SUMMARY: This notice advises the public that the U.S. Fish and Wildlife Service (Service) intends to gather information necessary to prepare a Comprehensive Conservation Plan (CCP) and Environmental Impact Statement (EIS) pursuant to the National Environmental Policy Act and its implementing regulations, for the Long Island National Wildlife Refuge Complex refuges located in the State of New York. These refuges include Amagansett National Wildlife Refuge (NWR), Conscience Point NWR, Lido Beach NWR, Morton NWR, Oyster Bay NWR, Seatuck NWR, Target Rock NWR, and Wertheim NWR. The Refuges are in Suffolk and Nassau Counties, New York.

The Service is furnishing this notice in compliance with the National Wildlife Refuge System Administration Act of 1966, as amended (16 U.S.C. 668dd et seq.):

(1) To advise other agencies and the public of our intentions, and

(2) To obtain suggestions and information on the scope of issues to include in the environmental documents.

DATES: Inquire at the address below for dates of planning activity and due dates for comments.

ADDRESSES: Address comments and requests for more information to the following: Refuge Manager, Long Island National Wildlife Refuge Complex, P.O. Box 21, Shirley, New York 11976, 631/286-0485.

SUPPLEMENTARY INFORMATION: By Federal law, all lands within the National Wildlife Refuge System are to be managed in accordance with an approved CCP. The CCP guides management decisions and identifies refuge goals, long-range objectives, and strategies for achieving refuge purposes. The planning process will consider many elements, including habitat and wildlife management, habitat protection and acquisition, public use, and cultural resources. Public input into this planning process is essential. The CCP will provide other agencies and the public with a clear understanding of the desired conditions for the Refuges and how the Service will implement management strategies.

The Service will solicit information from the public via open houses, meetings, and written comments. Special mailings, newspaper articles, and announcements will inform people in the general area near each refuge of the time and place of opportunities for public input to the CCP.

The Long Island NWR Complex is a diverse group of nine units totaling over 6,200 acres, and contain most of the habitat types found on Long Island which are important to hundreds of migratory bird species and other wildlife .

Review of this project will be conducted in accordance with the requirements of the National Environmental Policy Act of 1969, as amended (42 U.S.C. 4321 et seq.), NEPA Regulations (40 CFR 1500-1508), other appropriate Federal laws and regulations, and Service policies and procedures for compliance with those regulations.

We estimate that the draft environmental documents will be available in summer 2001.

Dated: May 11, 2000.
Mamie A. Parker,
Deputy Regional Director, U.S. Fish and Wildlife Service, Hadley, Massachusetts.

[FR Doc. 00-13395 Filed 5-26-00; 8:45 am]

BILLING CODE 4310-55-P